DEPARTMENT OF AGRICULTURE

Forest Service

Chequamegon-Nicolet National Forest, Great Divide Ranger District; WI; Twentymile Restoration Project

AGENCY: Forest Service, USDA.

ACTION: Notice of intent to prepare an environmental impact statement.

SUMMARY: The USDA Forest Service, Chequamegon-Nicolet National Forest, Great Divide Ranger District intends to prepare an environmental impact statement (EIS) to disclose the environmental consequences of a vegetation and water resources restoration project. In the EIS the USDA Forest Service will address the potential environmental impacts associated with: restoring northern hardwood forests to an uneven-aged condition, improving the landscape pattern of northern hardwood forests, reducing the amount of aspen in cold-water stream corridors, reducing sediment and restoring riparian and stream habitat, improving upland forest type composition, balancing the age class distribution of aspen, and providing a safe, efficient, and effective transportation system; all while promoting healthy forests and providing forest commodities.

The Twentymile Project Area is approximately 32,000 acres in size and is located in Bayfield County, approximately 25 miles northeast of Hayward, Wisconsin. The approximate legal description for the area is as follows: T44N R6W Sections 1-14 and 23-25; T44N R5W Sections 5-8, 14-23, and 26-35; T43N R5W Sections 1-3, 11, and 12; and T43N R4W Sections 4-7. See the SUPPLEMENTARY INFORMATION section for the purpose and need for the action.

DATES: Comments concerning the scope of the analysis should be received within 30 days following publication of this notice to receive timely consideration in the preparation of the draft EIS. The draft environmental impact statement is expected May 2005 and the final environmental impact statement is expected September 2005.

ADDRESSES: Send written comments to Anne Archie, c/o Deb Sigmund, NEPA Coordinator; Great Divide Ranger District, P.O. Box 896, Hayward, WI 54843. Send electronic comments to: comments-eastern-chequamegon-nicolet-great-divide@fs.fed.us. See SUPPLEMENTARY INFORMATION section for information on how to send electronic comments.

FOR FURTHER INFORMATION CONTACT: Deb Sigmund, NEPA Coordinator, Great Divide Ranger District, Chequamegon-Nicolet National Forest, USDA Forest Service; telephone: 715-634-4821. See address above under ADDRESSES. Copies of documents may be requested at the same address. Another means of obtaining information is to visit the Forest Web page at www.fs.fed.us/r9/cnnf/—click on “Natural Resources”, then “Twentymile Restoration Project”.

SUPPLEMENTARY INFORMATION:

Purpose and Need for Action

The purpose of the Twentymile Restoration project is to implement land management activities that are consistent with direction in the Chequamegon-Nicolet National Forests Land and Resource Management Plan (Forest Plan, 2004) and to respond to specific needs and/or problems that were identified during opportunity area and transportation system analyses.

The purpose and need for this proposal is to: (1). Restore northern hardwood forests to an uneven-aged condition (Plan, p. 1-3). These uneven-aged forests are to be characterized by a variety of tree ages and sizes, with older age classes well represented. Achieve large diameter trees (>25″ dbh), and old growth characteristics such as tip-ups, snags, and coarse woody debris (Plan, p. 3-9). Emphasis for restoration is to provide a well-developed understory that provides feeding and nesting habitat for Neotropical birds, nutrient cycling, and tree seedling establishment (Plant FEIS, p. 3-61); (2.) Improve the landscape pattern of northern hardwood forests by maintaining or recreating large northern hardwood patch conditions and allowing early successional forest patches to succeed or treat them so as to encourage conversion to long-lived species (Plan, p. 3-8); (3.) Reduce the amount of aspen in cold-water stream corridors by not regenerating it and/or converting it to long-lived conifers or northern hardwoods (Plan p. 2-17); (4.) Reduce sediment deposition and restore riparian and stream habitat. Maintain or restore streams to provide for the transport of water and sediments within the natural ranges for the watershed, which results in stable stream channels (Plan, p. 3-60). Relocate existing roads and trails out of riparian management zones and eliminate stream crossings when practicable (Plan pp. 1-3 and 2-2); (5.) Improve upland forest type composition. Terrestrial ecosystems should be in healthy, diverse, and productive conditions and support a diversity of plant and animal communities and tree species (Plan, p. 1-3); (6.) Balance the age class distribution of aspen in the areas it is desired to promote diversity for various wildlife species. A long-term sustainable level of all age classes is needed by wildlife species for dense cover and forage (Plan, p. 2-4 and 3-11); (7.) Promote healthy forests and provide forest commodities. Maintain and enhance the growth and vigor of trees within the project area, while providing a variety of wood products and species mixes for the different market niches through commercial timber harvests (Plan, p. 1-6); (8.) Provide a safe, efficient, and effective transportation system. A desirable transportation system provide safe access and meets the needs of communities and forest users; facilitates the implementation of the Forest Plan; allows for economical and efficient management within likely budget levels; meets current and future resource management objective; and has a minimal impact on natural resources. (Plan, pp. 1-7 and 2-35-38; Twentymile Roads Analysis, p. 4).

Proposed Action

The following actions have been identified to address the above needs. (1) To address the need for restoration of northern hardwood forest, approximately, 7,897 acres of predominantly even-aged northern hardwood stands would be selectively harvested. Approximately 20 acres of these northern hardwood stands would also be under planted to white pine. Within approximately 576 acres of these stands, some of the trees marked for removal would be felled and left in place, to move these stands closer to the desired quantity of coarse wood debris. (2) To address the need for improvement of the landscape pattern of northern hardwoods, approximately 249 acres of aspen within or adjacent to existing hardwood blocks would be treated with an improvement cut to begin conversion to northern hardwoods. (3) To address the need for reducing the amount of aspen within cold-water stream corridors, approximately 64 acres of aspen would be converted to northern hardwoods by improvement cutting to no less than 85-95 square feet of basal area per acre. (4) To address the need for sediment reduction and riparian habitat restoration approximately 1 mile of road would be relocated out of stream floodplains; 1100 feet of Twentymile Creek would be restored to its original stream channel; 9 intermittent drainages to Twentymile Creek would be restored; and 230 feet of Twentymile Creek would be restored through removal of an old culvert, channel braids upstream, and a large scour pool downstream. (5) To meet the upland forest type composition objectives need, shelterwood harvests would be conducted on 81 acres of paper birch stands; overstory removals conducted on 146 acres of paper birch stands; pine thinnings conducted on about 364 acres of red pine and 29 acres of white pine stands; clearcuts conducted on 31 acres of jack pine stands followed by planting to red pine; and 13 acres of upland openings would be maintained through mowing, burning, or hand-cutting. (6) The need for balancing the age class distribution of aspen would be met by clearcutting and regenerating approximately 413 acres of aspen. (7) The need for improving forest health and providing forest commodities would be met through numbers 1, 2, 4, 5, and 6 above. (8) The transportation system needs would be met by eliminating about 29 miles of roads that are in poor locations and not needed for long-term access to the national forest; reconstructing about 4 miles of road that are in poor condition; constructing about 13 miles of new road to provide long-term access to specific areas of the forest; constructing 1.5 miles of temporary roads that would be eliminated after use; relocating 2 unsafe intersections to safer locations; and closing approximately 20 miles of National Forest System road to vehicles and ATV's to protect resources, avoid recreation use conflicts, address local government concerns, or address safety issues.

Responsible Official

Anne Archie, Forest Supervisor; Chequamegon-Nicolet National Forest, 1170 4th Avenue South, Park Falls, WI 54552.

Nature of Decision To Be Made

The decision will be limited to answering the following three questions based on the environmental analysis:

1. What actions would be used to address the purpose and need

2. Where and when these actions would occur

3. What mitigation measures and monitoring requirements would be required

Scoping Process

The Chequamegon-Nicolet National Forest proposes to scope for information by contacting persons and organizations on the District's mailing list, by publishing a notice in the local newspapers, and by posting flyers at key locations within and nearby the Twentymile project area. No scoping meetings are planned at this time. The present solicitation is for comments on this Notice of Intent and scoping materials available elsewhere, such as on the Forest Web page.

Preliminary Issues

Preliminary or potential issues have been identified from previous internal and public comments.

1. Timber Harvests may result in short-term impacts to soils, understory vegetation, wildlife, visuals, and recreational uses of the forest.

2. Long-term reductions of aspen may occur as a result of conversions, affecting the species that relay on them for food and cover.

3. Road decommissioning and closures may reduce the number of roads and miles of roads previously available for public and tribal access, for uses such as hunting, gathering, etc.

4. Road Reconstruction and Construction may disturb and impact new corridors, while creating access and use where access was previously not available.

5. Road Relocations may disturb and impact new corridors. Relocations may also improve watershed health and motorist safety.

6. Watershed Improvement projects may result in short-term increases in turbidity and sedimentation.

Electronic Access and Filing Addresses

Information is available electronically on the Forest Web page: http://www.fs.fed.us/r9/cnnf—click on “Natural Resources” and then “Twentymile Restoration Project”. Send electronic comments to: comments-eastern-chequamegon-nicolet-great-divide@fs.fed.us. When submitting electronic comments, please reference the Twentymile Restoration Project on the subject line. In addition, include your name and mailing address.

Comments Requested

This notice of intent initiates the scoping process which guides the development of the environmental impact statement. Comments in response to this solicitation for information should focus on (1.) The proposal as described in numbers 1-8 of the Proposed Action, (2.) possible alternatives for addressing issues associated with the proposal, and (3.) any possible impacts associated with the proposal based on an individual's civil rights (race, color, national origin, age, religion, gender, disability, political beliefs, sexual orientation, or marital or family status). We are especially interested in information that might identify a specific undesired result of implementing the proposed action. Comments received in response to this solicitation including names and addresses of those who comment will be considered part of the public record on this proposed action and will be available for public inspection. Comments submitted anonymously will be accepted and considered; however those who submit anonymous comments will not have standing to appeal the subsequent decisions under 36 CFR parts 215 or 217.

Additionally, pursuant to 7 CFR 1.27(d), any persons may request the agency to withhold a submission from the public record by showing how the FOIA (Freedom of Information Act) permits such confidentially. Persons requesting such confidentiality should be aware that under FOIA confidentiality may be granted in only very limited circumstances, such as to protect trade secrets.

The Forest Service will inform the requester of the agency's decision regarding the request for confidentiality and, should the request be denied, return the submission and notify the requester that the comments may be resubmitted with or without name and address within 90 days.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRCD, 435 U.S. 519, 553 (1978). Also, environmental objections that could be raised at the draft environmental impact statement stage but that are not raised until after completion of the final environmental impact statement may be waived or dismissed by the courts. City of Angoon v. Hodel, 803 F.2d 1016, 1022 (9th Cir. 1986), and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: December 10, 2004.
Anne F. Archie,
Forest Supervisor.

[FR Doc. 04-28098 Filed 12-22-04; 8:45 am]

BILLING CODE 3410-11-M